DEPARTMENT OF COMMERCE

National Oceanic and Atmospheric Administration

[0648-XR001]

Endangered and Threatened Species; Take of Anadromous Fish

AGENCY: National Marine Fisheries Service (NMFS), National Oceanic and Atmospheric Administration (NOAA), Commerce.

ACTION: Notice; availability of a draft Environmental Assessment and Proposed Evaluation and Pending Determination for public comment.

SUMMARY: Notice is hereby given that NMFS has received four plans for hatchery operations rearing and releasing Chinook salmon, coho salmon, and chum salmon in the Stillaguamish River basin, Washington. The four plans are submitted pursuant to the Section 4(d), Limit 6. The plans describe programs operated by the Stillaguamish Tribe of Indians (STI). This document serves to notify the public of the availability and opportunity to comment on a draft Environmental Assessment and proposed evaluation and pending determination (PEPD) on the proposed Hatchery and Genetic Management Plans (HGMPs).

DATES: Comments must be received at the appropriate address (see ADDRESSES) no later than 5 p.m. Pacific time on July 29, 2019. Comments received after this date may not be considered.

ADDRESSES: Written comments on the draft Environmental Assessment or PEPD should be addressed to Alan Olson; NMFS, West Coast Region; 510 Desmond Drive SE, Suite 107; Lacey, WA 98503. Comments may be submitted by email. The mailbox address for providing email comments is hatcheries.public.comment@noaa.gov. Include in the subject line of the email comment the following identifier: Comments on Stillaguamish River hatchery programs. The documents can be found at www.westcoast.fisheries.noaa.gov/.

FOR FURTHER INFORMATION CONTACT: Alan Olson, at phone number: (360) 753-4062, or via email: alan.olson@noaa.gov.

SUPPLEMENTARY INFORMATION:

ESA-Listed Species Covered in This Notice

• Puget Sound Chinook Salmon (Oncorhynchus tshawytscha): threatened, naturally and artificially propagated

• Puget Sound Steelhead (Oncorhynchus mykiss): threatened, naturally and artificially propagated

Background

Section 9 of the ESA and Federal regulations prohibit the “taking” of a species listed as endangered or threatened. The term “take” is defined under the ESA to mean harass, harm, pursue, hunt, shoot, wound, kill, trap, capture, or collect, or to attempt to engage in any such conduct. The ESA prohibits the take of endangered salmonids and, pursuant to ESA section 4(d), ESA regulations can be extended to prohibit the take of threatened salmonids. However, NMFS may make exceptions to the take prohibitions for hatchery programs that are approved by NMFS under the limits on the prohibitions outlined in 50 CFR 223.203(b). STI and Washington Department of Fish and Wildlife (collectively the co-managers) have submitted HGMPs to NMFS pursuant to the ESA 4(d) Rule for salmon and steelhead.

The hatchery programs are intended to contribute to the survival and recovery of Puget Sound Chinook Salmon, provide information on exploitation rates, and support returns of coho salmon and chum salmon to the Stillaguamish River basin.

Authority

Under section 4 of the ESA, the Secretary of Commerce is required to adopt such regulations as he deems necessary and advisable for the conservation of species listed as threatened. The ESA salmon and steelhead 4(d) Rule (65 FR 42422, July 10, 2000, as updated in 70 FR 37160, June 28, 2005) specifies categories of activities that contribute to the conservation of listed salmonids and sets out the criteria for such activities. Limit 6 of the updated 4(d) Rule (50 CFR 223.203(b)(6)) further provides that the prohibitions of paragraph (a) of the updated 4(d) Rule (50 CFR 223.203(a)) do not apply to activities described in a joint management plan provided that it has been approved by NMFS to be in accordance with the salmon and steelhead 4(d) Rule (65 FR 42422, July 10, 2000, as updated in 70 FR 37160, June 28, 2005).

Dated: June 7, 2019.
Angela Somma,
Chief, Endangered Species Conservation Division, Office of Protected Resources, National Marine Fisheries Service.

[FR Doc. 2019-13762 Filed 6-27-19; 8:45 am]

BILLING CODE 3510-22-P